SECURITIES AND EXCHANGE COMMISSION

[Release No. 34-68457; File No. SR-CBOE-2012-120]

Self-Regulatory Organizations; Chicago Board Options Exchange, Incorporated; Notice of Filing of a Proposed Rule Change, as Modified by Amendment No. 2, To Allow the Listing and Trading of a P.M.-Settled S&P 500 Index Option Product

December 18, 2012.

Correction

In notice document 2012-30887 appearing on pages 76135-76139 in the issue of December 26, 2012, make the following correction:

On page 76139, in the first column, in the last full paragraph, in the last line, “January 14, 2013” should read “January 16, 2013”.

[FR Doc. C1-2012-30887 Filed 1-7-13; 8:45 am]

BILLING CODE 1505-01-D